DEPARTMENT OF DEFENSE

Office of the Secretary

[Transmittal No. 17-0A]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(5)(C) arms sales notification is published to fulfill the requirements of section 155 of Public Law 104-164 dated July 21, 1996. The following is a copy of a letter to the Speaker of the House of Representatives, Transmittal 17-0A.

Dated: December 5, 2017.
Aaron Siegel,
Alternate OSD Federal Register Liaison Officer, Department of Defense.

BILLING CODE 5001-06-P

BILLING CODE 5001-06-C

Transmittal No. 17-0A

REPORT OF ENHANCEMENT OR UPGRADE OF SENSITIVITY OF TECHNOLOGY OR CAPABILITY (SEC. 36(B)(5)(C), AECA)

(i) Purchaser: Australia

(ii) Sec. 36(b)(1), AECA Transmittal No.: 09-36

Date: 17 July 2009

Military Department: Air Force

(iii) Description: On 17 July 2009, Congress was notified by Congressional certification transmittal number 09-36 of the Government of Australia's request to continue participation in the USAF/Boeing Globemaster III Sustainment Partnership (GSP), which consists of support for Australia's fleet of four (4) Boeing C-17A Globemaster III cargo aircraft, contractor technical and logistics support services, support equipment, spare and repair parts, and other related elements of logistics support. The estimated cost is $300 million. Major Defense Equipment (MDE) constituted $0 million of the total cost.

Transmittal 14-0C reported the inclusion of additional Contractor Logistics Support for Australia's fleet of C-17 Globemaster III cargo aircraft, which had increased from four (4) to six (6). This change did not result in any increase in MDE, but increased the total case value from $300 to $450 million.

This transmittal reports the further inclusion of additional funding to maintain Australia's participation in the USAF/Boeing Globemaster III Sustainment Partnership (GSP) through 2022. Additionally, Australia's fleet of C-17A Globemaster III cargo aircraft has increased from six (6) to eight (8). Support includes contractor technical and logistics support services, support equipment, spare and repair parts, and other related elements of logistics support. The case value will increase from $450 million to $850 million but will not result in an increase in the value of MDE.

(iv) Significance: The proposed sale will allow Australia to effectively maintain its current force projection capability that enhances interoperability with U.S. forces well into the future.

(v) Justification: This sale will contribute to the foreign policy and national security of the United States by helping to improve the security of an important major non-NATO ally and partner which contributes significantly to peacekeeping, humanitarian, and combat operations around the world.

(vi) Date Report Delivered to Congress: December 1, 2017

[FR Doc. 2017-26491 Filed 12-7-17; 8:45 am]

BILLING CODE 5001-06-P